DEPARTMENT OF ENERGY

Federal Energy Regulatory Commission

Combined Notice of Filings

Take notice that the Commission has received the following Natural Gas Pipeline Rate and Refund Report filings:

Filings Instituting Proceedings

Docket Numbers: RP14-763-000

Applicants: Transcontinental Gas Pipe Line Company,

Description: Annual Adjustment to Rate Schedule SS-2 Storage Gas Balances 2014 to be effective 5/1/2014

Filed Date: 4/22/14

Accession Number: 20140422-5102

Comments Due: 5 p.m. ET 5/5/14

Docket Numbers: RP14-764-000

Applicants: Millennium Pipeline Company, LLC

Description: Negotiated Rate Service Agreement—WPX to be effective 5/1/2014

Filed Date: 4/23/14

Accession Number: 20140423-5054

Comments Due: 5 p.m. ET 5/5/14

Docket Numbers: RP14-765-000

Applicants: Texas Gas Transmission, LLC

Description: Non-conforming Agmt—Clarksdale 20393 to be effective 4/23/2014

Filed Date: 4/23/14

Accession Number: 20140423-5146

Comments Due: 5 p.m. ET 5/5/14

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 24, 2014.
Nathaniel J. Davis, Sr.,
Deputy Secretary.

[FR Doc. 2014-10088 Filed 5-1-14; 8:45 am]

BILLING CODE 6717-01-P